DEPARTMENT OF HEALTH AND HUMAN SERVICES

Centers for Disease Control and Prevention

[60Day-12-12BT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-5960 or send comments to Daniel Holcomb, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community Transformation Grants: Use of System Dynamic Modeling and Economic Analysis in Select Communities—New—National Center for Chronic Disease Prevention and Health Promotion (NCCDPHP), Centers for Disease Control and Prevention (CDC).

Background and Brief Description

The American Recovery and Reinvestment Act (ARRA) of 2009 was signed into law on February 17, 2009, Public Law 11-5 (“Recovery Act”). The Department of Health and Human Services (HHS) has developed an initiative in response to ARRA—the Patient Protection and Affordable Care Act (ACA)—that is helping to reorient the U.S. health care system from primarily treating disease to promoting population health and well-being. The ACA created a new Prevention and Public Health Fund designed to expand and sustain the necessary infrastructure to prevent disease, detect it early, and manage conditions before they become severe. Section 4002 of the ACA authorized the Community Transformation Grants (CTG) program to promote the development of healthier communities through strategies designed to reduce chronic disease rates, prevent the development of secondary conditions, reduce health disparities, and develop a stronger evidence base for effective prevention programming.

In September 2011, CDC funded 61 CTG cooperative agreements with state, local and tribal government agencies, and nonprofit organizations. Twenty-six awardees are focused on capacity building efforts, and 35 awardees are working to implement sustainable, broad, evidence- and practice-based policy, environmental, programmatic and infrastructure changes to improve public health. Each CTG implementation awardee is developing a work plan for its jurisdiction or service area that focuses on one or more of the following five strategic directions: (1) Tobacco-free living, (2) active lifestyles and healthy eating, (3) high impact evidence-based clinical and other preventive services, (4) social and emotional well-being, and (5) healthy and safe physical environments.

As part of a multi-component evaluation plan for the CTG program, CDC is seeking OMB approval to collect the information needed to conduct cost and cost-benefit analyses relating to the implementation of CTG-funded community interventions. Using a system dynamics approach, CDC also plans to conduct simulation modeling which will integrate the cost data with other data to predict selected chronic disease outcomes and their associated monetary impacts under various scenarios. CDC and NIH have previously collaborated on the development of analytic tools for system dynamics modeling under more limited conditions. The collection and analysis of actual cost data from CTG awardees will support the expansion and refinement of these analytic tools with respect to short-, intermediate- and long-term outcomes for large-scale, community-based programs that employ multiple policy and environmental change strategies.

Information to be collected from participating CTG awardees includes the interventions to be implemented; expenditures for labor, personnel, consultants, materials, travel, services, and administration; in-kind contributions; and partner organizations and their expenditures. Information will be collected electronically via a user-friendly, Web-based CTG Cost Study Instrument (CTG-CSI). Respondents will be a subset of 30 out of 35 CTG awardees funded specifically for implementation activities. CDC will select awardees for participation in the cost data collection based on a list of priority interventions appropriate for cost analysis.

Results of this data collection and planned analyses, including improvements in CDC's analytic and modeling tools, will be used to assist CTG awardees, CDC, and HHS in choosing intervention approaches for particular populations that are both beneficial to public health and cost-effective.

OMB approval is requested for the first three years of a five-year project with first data collection beginning approximately July 2012. CDC plans to seek an extension of OMB approval to support information collection through the end of the five-year award period.

Information will be collected electronically on a quarterly schedule. The estimated burden per response is 11 hours and there are no costs to respondents except their time to participate in the survey.

Estimated Annualized Burden Hours
Type of respondents | Form name | Number of respondents | Number of responses per respondent | Average burden per response (in hrs) | Total burden (in hrs)
CTG Awardee | CTG-CSI | 30 | 4 | 11 | 1,320

Dated: December 2, 2011.
Daniel Holcomb,
Reports Clearance Officer, Centers for Disease Control and Prevention.

[FR Doc. 2011-31622 Filed 12-8-11; 8:45 am]

BILLING CODE 4163-18-P